DEPARTMENT OF THE INTERIOR

Fish and Wildlife Service

[FWS-R3-R-2009-N243; 30136-1265-0000-S3]

Boyer Chute National Wildlife Refuge, NE; Hamden Slough National Wildlife Refuge, MN; and Iowa Wetland Management District, IA

AGENCY: Fish and Wildlife Service, Interior.

ACTION: Notice of intent to prepare a comprehensive conservation plan and environmental assessment; request for comments.

SUMMARY: We, the U.S. Fish and Wildlife Service (Service) intends to gather information necessary to prepare a comprehensive conservation plan (CCP) and associated environmental documents for the Boyer Chute and Hamden Slough National Wildlife Refuges (NWRs) and the Iowa Wetland Management District (WMD). We furnish this notice in compliance with our CCP policy to advise other agencies and the public of our intentions, and to obtain suggestions and information on the scope of issues to be considered in the planning process.

We also invite comments on archeological, historic, and traditional cultural sites in accordance with the National Historic Preservation Act.

In addition, special mailings, newspaper articles, Internet postings, and other media announcements will inform people of the opportunities for written comments.

ADDRESSES: Comments or requests for more information can be sent to the appropriate refuge at the following addresses:

1. Attention: Refuge Manager, Boyer Chute National Wildlife Refuge, 3720 Rivers Way, Fort Calhoun, NE 68023;

2. Attention: Refuge Manager, Hamden Slough National Wildlife Refuge, 26624 N. Tower Road, Detroit Lakes, MN 56501;

3. Attention: Refuge Manager, Iowa Wetland Management District, 1710 360th Street, Titonka, IA 50480.

You may also find information on the CCP planning process and submit comments electronically on the planning Web site http://www.fws.gov/midwest/planning or you may e-mail comments to r3planning@fws.gov.

FOR FURTHER INFORMATION CONTACT: Tom Cox, DeSoto NWR, 712-642-4121; Scott Kahan, Hamden Slough NWR, 218-847-4431; or George Maze, Iowa WMD, 515-928-2523.

SUPPLEMENTARY INFORMATION: With this notice, we initiate the CCP for the Boyer Chute NWR, with headquarters in Fort Calhoun, NE; the CCP for the Hamden Slough NWR, with headquarters in Detroit Lakes, MN; and the CCP for the Iowa WMD, with headquarters in Titonka, IA.

Background

The CCP Process

The National Wildlife Refuge System Administration Act of 1966, as amended by the National Wildlife Refuge System Improvement Act of 1997 (16 U.S.C. 668dd-668ee), requires us to develop a comprehensive conservation plan for each national wildlife refuge. Land parcels we manage within a Wetland Management District are also units of the National Wildlife Refuge System. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

Each unit of the National Wildlife Refuge System, including each of these NWRs, is established with specific purposes. We use these purposes to develop and prioritize management goals and objectives within the National Wildlife Refuge System mission, and to guide which public uses will occur on these Refuges. The planning process is a way for us and the public to evaluate management goals and objectives for the best possible conservation efforts of this important wildlife habitat, while providing for wildlife-dependent recreation opportunities that are compatible with the Refuges' establishing purposes and the mission of the National Wildlife Refuge System.

We will conduct a comprehensive conservation planning process that will provide opportunity for Tribal, State, and local governments; agencies; organizations; and the public to participate in issue scoping and public comment for the future management of Boyer Chute NWR, Hamden Slough NWR, and Iowa WMD. We invite anyone interested to respond to the following two questions:

1. What issues do you want to see addressed in the CCP?

2. What improvements would you recommend for the Refuges or Wetland District?

Responding to these two questions is optional; you are not required to provide information to us. Our Planning Team developed the questions to gather information about individual issues and ideas concerning these Refuges and Wetland District. Comments we receive will be used as part of the planning process; however, we will not reference individual comments in our reports or directly respond to them.

We also invite comments on archeological, historic, and traditional cultural sites in accordance with the National Historic Preservation Act of 1966 (16 U.S.C. 470 et seq.).

We will also give the public an opportunity to provide input at open houses. You can obtain a schedule of the open house events by contacting the Refuge Managers listed in the addresses section of this notice.

The environmental review of these projects will be conducted in accordance with the requirements of the National Environmental Policy Act of 1969, as amended (42 U.S.C. 4321 et seq.); NEPA Regulations (40 CFR parts 1500-1508); other appropriate Federal laws and regulations; and our policies and procedures for compliance with those regulations.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: December 14, 2009.
Charles M. Wooley,
Acting Regional Director, U.S. Fish and Wildlife Service, Ft. Snelling, Minnesota.

[FR Doc. 2010-3154 Filed 2-17-10; 8:45 am]

BILLING CODE 4310-55-P